COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Date deleted from the Procurement List: May 27, 2018.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 3/9/2018 (83 FR 47), 3/16/2018 (83 FR 52), and 3/23/2018 (83 FR 57), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 6530-01-115-7835—Holder, Clinical Chart

Mandatory Source of Supply: CW Resources, Inc., New Britain, CT

Contracting Activity: Defense Logistics Agency Troop Support

NSN(s)—Product Name(s): 6510-01-336-6192—Dressing, First Aid, Field Training

Mandatory Source of Supply: Elwyn, Aston, PA

Contracting Activity: Defense Logistics Agency Troop Support

NSN(s)—Product Name(s): 5340-01-365-1043—Strap, Mail Tray

Mandatory Source of Supply: Work, Incorporated, Dorchester, MA

Contracting Activity: U.S. Postal Service, Eagan

NSN(s)—Product Name(s):

7510-00-NIB-0240—Business Cards

7510-00-NIB-0265—Business Cards

7510-00-NIB-0266—Business Cards

Mandatory Source of Supply: Envision, Inc., Wichita, KS

Contracting Activity: General Services Administration, New York, NY

NSN(s)—Product Name(s):

6260-00-NIB-0005—Lighted Baton—Amber

6260-00-NIB-0006—Lighted Baton—InfraRed

6260-00-NIB-0008—Lighted Baton—Red

6260-00-NIB-0009—Lighted Baton—Green

6260-00-NIB-0010—Lighted Baton—Blue

6260-00-NIB-0011—Lighted Baton—Amber/Red

Mandatory Source of Supply: LC Industries, Inc., Durham, NC

Contracting Activity: General Services Administration, New York, NY

Amy Jensen,
Director, Business Operations.

[FR Doc. 2018-08947 Filed 4-26-18; 8:45 am]

BILLING CODE 6353-01-P